DEPARTMENT OF STATE

[Public Notice 5874]

Notice of Finding of No Significant Impact from Construction of a New Livestock Crossing near San Luis, Arizona

AGENCY: Department of State.

ACTION: Notice.

SUMMARY: The Department of State is publishing a Finding of No Significant Impact (FONSI) for the proposed construction of a new livestock crossing (the “San Luis Cattle Crossing”) at the United States-Mexican border 2,500 feet (approximately half a mile) east of an existing livestock crossing near San Luis, Arizona. The closing of the existing livestock crossing and its relocation to this new location is necessitated by construction of the new San Luis II commercial border crossing (scheduled to begin in the summer of 2007) at the location of the existing livestock crossing.

FOR FURTHER INFORMATION CONTACT: Mr. Daniel Darrach, Coordinator of Border Affairs, Office of Mexican Affairs, Bureau of Western Hemisphere Affairs. U.S. Department of State, 2201 C Street NW., Washington, DC 20520, phone 202-647-8529, or e-mail: DarrachDD@state.gov.

SUPPLEMENTARY INFORMATION: The following represents the text of the State Department approved FONSI—The Greater Yuma Port Authority (“GYPA”) has submitted an application for a Presidential permit to relocate the existing livestock crossing at the United States-Mexico border near San Luis, Arizona and San Luis Rio Colorado, Sonora to a location about one half of a mile east. Some 60,000 steers and several hundred horses pass through the existing livestock crossing annually, mostly in winter. The Department of State (the “Department”) has determined that under Executive Order 11423, as amended, a Presidential permit is required for the relocated livestock crossing since it would involve a new piercing of the United States-Mexico border.

The closing of the existing livestock crossing and its relocation 2,500 feet to the east is required as a result of the planned construction of the new San Luis II commercial port of entry (“POE”), on the site of the original livestock crossing. On June 13, 2007, the Department issued a Presidential permit for the San Luis II POE.

The National Environment Policy Act (“NEPA”) requires that a No Action alternative be considered in the environmental review process. The result of the No Action alternative would be that the existing livestock crossing would impede the construction of the commercial border crossing itself and the pre-primary queuing area of the San Luis II POE. Odors emanating from the existing livestock crossing would also cause unpleasant conditions at the San Luis II POE.

The affected natural environment consists of water sources, landforms, plants, and animals native to the Sonoran Desert ecosystem. One threatened plant species, the sand food, and one threatened animal species, the flat-tailed horned lizard (“FTHL”) inhabit the project area. There are no unique geological resources or sources of surface water within the project area and no plans to drill for groundwater. The affected human environment consists of the nearby cities of San Luis, Arizona and San Luis Rio Colorado, Sonora. No prehistoric or historic remains were found within the project area.

In order to provide optimal conditions for the transient traveling public and employees stationed at the San Luis II POE, a new livestock crossing must be an adequate distance from the San Luis II POE. The site of the proposed new livestock crossing takes account of wind direction and building orientation. Distance is the primary factor in mitigating odors. The new livestock crossing would be about 2,500 feet from the closest occupied building on the land containing the San Luis II POE. For the few states with setback standards for odors, a distance of more than 1,500 feet for facilities with up to 3,000 cattle is considered sufficient protection against odors. There is no problematic odor associated with horses.

How manure is managed (how often the pens are cleaned, how manure is stored, where and when manure is spread, whether straw is put down, etc.) has a dramatic effect on how much odor is present. Whatever odor is generated will rise directly above the pens in a plume the width of the combined areas of the pens. During the day, the sun warms the surface soil, and the rising air currents disperse the odor plume. Odor complaints usually arise during the night or early morning when the air is still. The direction and dissipation of odor depends largely on wind direction and velocity and air drainage, which are linked to topography and climate.

The prevailing winds for the site tend to be from the north in October-February, from the west in March-May, and from the south-southeast in June-September. The proposed site of the new livestock crossing, one half-mile east of the San Luis II POE, appears to be a favorable location since it is typically downwind of the POE and is relatively flat. Flat sites with good air movement tend to be appropriate locations to build livestock facilities.

No major adverse environmental effects are expected from the Proposed Action alternative if proper mitigation measures are implemented. The project could affect biological resources, undiscovered cultural resources, growth, and other environmental factors. However, the project must comply with federal law, including any conditions of approval, which would consequently mitigate any potential adverse effects. The conditions of approval (mitigation measures) are described below.

As described above, the No Action alternative is not feasible.

In 2000, the Bureau of Reclamation (“BoR”) of the Department of the Interior relied on an Environmental Assessment (EA) prepared by Barton-Aschmann Associates, Inc. in reaching a finding that the transfer of land from the BoR to the GYPA for construction of the San Luis II commercial POE would have No Significant Impact on the environment (“FONSI”). The 2000 BoR FONSI included a requirement that the GYPA implement conservation measures recommended by the U.S. Fish and Wildlife Service (“USFWS”) in its Conference Opinion for the FTHL by retaining an onsite biological monitor during construction and operation of the POE. In 2002, the GYPA and BoR requested modification of the original Conference Opinion regarding this monitoring requirement. As a result of the modified Conference Opinion, and in lieu of hiring a full-time biological monitor, the GYPA agreed to implement the conservation measures included in the Conference Opinion with respect to the parcel acquisition, construction and subsequent operation of the proposed commercial POE and the paving and subsequent use of the Yuma County Avenue E access road. The Department had concluded that the GYPA will be required to implement these conservation measures as a condition of approval of the Presidential permit for the livestock crossing.

Findings

1. The General Services Administration has previously published in the Federal Register (72 FR 7658-01, February 16, 2007) its determination that a new commercial POE on the United States-Mexico border near San Luis, Arizona and San Luis Rio Colorado, Sonora to accommodate current and future regional transportation requirements will not significantly affect the quality of the human environment.

2. All NEPA procedural requirements have been met, including a 30-day public notice period and coordination with federal, state, and local government agencies, as well as with Native Americans tribes.

3. The environmental commitments (mitigation measures) will offset any negative impacts identified by the BoR EA (referenced above).

4. No disputes or controversies have arisen regarding the accuracy or presentation of environmental effects, as documented in the BoR EA.

5. Relocation of the existing livestock crossing will not result in cumulative significant impacts.

6. The Department has been advised by the Arizona State Historic Preservation Officer that the Officer concurs with the finding of “no effect” regarding the project's impact on significant cultural resources.

7. Implementation of the project will not adversely affect any threatened or endangered species as long as the conservation measures for the flat-tailed horned lizard and sand food are implemented during relocation of the livestock crossing.

8. All soil disturbance and shrub removal will be minimized during relocation.

9. Implementation of this action will have no adverse impact on any Indian Trust Assets.

10. Implementation of this action will not violate federal, state, or local law.

Mitigation Measures

1. The relocation of the existing livestock crossing to the site specified in the application obviates the need for further mitigation measures with respect to odors emanating from the transient presence of livestock through and at the new livestock crossing.

2. Mitigation measures for the San Luis II POE are applicable in so far as relevant to the relocated livestock crossing. The mitigation measures listed in the final FONSI (signed April 15, 2007) can be viewed on the GSA Web site at http://www.gsa.gov/nepa.

In accordance with NEPA (42 U.S.C. 4321 et seq.), the regulations of the Council on Environmental Quality (40 CFR 1500-1508), and the Department's implementing regulations (22 CFR Part 161, and in particular 22 CFR 161.7(c)), the Department finds that the project described in the attached EA is not a federal action significantly affecting the quality of the human environment. Therefore, no Environmental Impact statement will be prepared.

The Finding of No Significant Impact will become final thirty (30) days after the publication of this notice, provided that no information leading to a contrary finding is received or comes to light during this period.

Dated: July 27, 2007.
Daniel D. Darrach,
Acting Director, Office of Mexican Affairs, Department of State.

[FR Doc. E7-15136 Filed 8-2-07; 8:45 am]

BILLING CODE 4710-29-P